DEPARTMENT OF ENERGY

Federal Energy Regulatory Commission

[Project Nos. 2205-057, 2396-034, 2397-031, 2399-037, 2400-033, 2445-024, 2489-046, 2490-028, 2558-032, 2731-042, 2737-022, 11475-015, 11478-014, and 12766-004]

Central Vermont Public Service Corporation; Green Mountain Power Corporation; Notice of Application for Transfer of Licenses, and Soliciting Comments and Motions To Intervene

On June 28, 2012, Central Vermont Public Service Corporation (transferor or CVPSC) and Green Mountain Power Corporation (transferee or GMPC) filed an application to transfer the licenses and substitute applicant for the following projects:

Project No. | Project name | Location
2205 | Lamoille River Hydroelectric | Lamoille River in Chittenden, Franklin, and Lamoille counties, Vermont.
2396 | Pierce Mills Hydroelectric | Passumpsic River in Caledonia County, Vermont.
2397 | Gage Hydroelectric | Passumpsic River in Caledonia County, Vermont.
2399 | Arnold Falls Hydroelectric | Passumpsic River in Caledonia County, Vermont.
2400 | Passumpsic Hydroelectric | Passumpsic River in Caledonia County, Vermont.
2445 | Center Rutland Hydroelectric | Otter Creek in Rutland County, Vermont.
2489 | Cavendish Hydroelectric | Black River in Windsor County, Vermont.
2490 | Taftsville Hydroelectric | Ottaquechee River in Windsor County, Vermont.
2558 | Otter Creek | Otter Creek in Rutland County, Vermont.
2731 | Weybridge Hydroelectric | Otter Creek in Addison County, Vermont.
2737 | Middlebury Lower Hydroelectric | Otter Creek in Addison County, Vermont.
11475 | Carver Falls Hydroelectric | Poultney River in Washington County, New York and Rutland County, Vermont.
11478 | Silver Lake Hydroelectric | Sucker Brook in Addison County, Vermont.
12766 | Clay Hill Road Transmission Line | Six miles of 12.5 kV, three-phase transmission line mounted on top of CVPSC's Line along Clay Hill Road from Pole #115 to CVPSC's Quechee substation.

Applicants seek Commission approval to transfer the licenses for the above projects from the transferor to the transferee.

Applicants' Contact: Transferor: Mr. Michael Scarzello, P.E., Central Vermont Public Service Corporation, 77 Grove Street, Rutland, VT 05701, (802) 747-5207. Transferee: Ms. Mari M. McClure, Esq., Corporate Attorney, Green Mountain Power Corporation, 163 Acorn Lane, Colchester, VT 05446, (802) 655-8749. Also for the transferor and transferee: Ms. Nicole S. Allen and Ms. Carmen L. Gentile, Bruder, Gentile & Marcoux, LLP, 1701 Pennsylvania Ave. NW., Washington, DC 20006, (202) 296-1500.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket numbers (P-2205-057, P-2737-022, P-11475-015, P-11478-014, P-12766-004, P-2490-028, P-2731-042, P-2396-034, P-2397-031, P-2399-037, P-2400-033, P-2445-024, P-2489-046, and P-2558-32) in the docket number field to access the document. For assistance, call toll-free 1-866-208-3372.

Dated: July 9, 2012.
Kimberly D. Bose,
Secretary.

[FR Doc. 2012-17321 Filed 7-16-12; 8:45 am]

BILLING CODE 6717-01-P